DEPARTMENT OF TRANSPORTATION

Office of the Secretary

Notice of Funding Availability for the Small Business Transportation Resource Center Program

AGENCY: United States Department of Transportation (USDOT), Office of the Secretary of Transportation (OST), Office of Small and Disadvantaged Business Utilization (OSDBU).

ACTION: Notice of Funding Availability for the Mid-South Atlantic Region; Extension of closing and award dates.

SUMMARY: This action extends the closing and award dates for the Notice of Funding Availability for the Small Business Transportation Resource Center for the Mid-South Atlantic Region published on February 26, 2013, 78 FR 13143. USDOT OSDBU is extending the Notice of Funding Availability to allow eligible entities time to adequately submit a proposal.

DATES: The submission period for the Notice of Funding Availability for the Mid-South Atlantic Region published on February 26, 2013 closing on March 25, 2013 is extended until May 15, 2013, 5:00 pm Eastern Standard Time. The announcement for the notice of award for the competed region is extended from April 11, 2013 until May 30, 2013.

ADDRESSES: Proposals must be electronically submitted to OSDBU via email at SBTRC@dot.gov.

For Further Information Concerning This Notice Contact: Ms. Patricia Martin, Program Analyst, U.S. Department of Transportation, Office of Small and Disadvantaged Business Utilization, 1200 New Jersey Avenue SE. W56-463, Washington, DC 20590. Telephone: 1-800-532-1169. Email: patricia.martin@dot.gov.

SUPPLEMENTARY INFORMATION: In the February 26, 2013 document (Notice Number USDOT-OST-OSDBU-SBTRC2013-3; Docket Number: DOT-OST-2009-0092), the Department of Transportation (DOT), Office of the Secretary (OST), Office of Small and Disadvantaged Business Utilization (OSDBU) announces the opportunity for; (1) Business centered community-based organizations; (2) transportation-related trade associations; (3) colleges and universities; (4) community colleges or; (5) chambers of commerce, registered with the Internal Revenue Service as 501 C (6) or 501 C (3) tax-exempt organizations, to compete for participation in OSDBU's Small Business Transportation Resource Center (SBTRC) program in the Mid-South Atlantic Region.

Issued in Washington, DC on March 29, 2013.
Brandon Neal,
Director, Office of Small and Disadvantaged Business Utilization, Office of the Secretary, U.S. Department of Transportation.

[FR Doc. 2013-07834 Filed 4-3-13; 8:45 am]

BILLING CODE 4910-9X-P